DEPARTMENT OF TRANSPORTATION

Pipeline and Hazardous Materials Safety Administration

Hazardous Materials: Notice of Applications for New Special Permits

AGENCY: Pipeline and Hazardous Materials Safety Administration (PHMSA), Transportation (DOT).

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 13, 2021.

ADDRESSES: Record Center, Pipeline and Hazardous Materials Safety Administration U.S. Department of Transportation, Washington, DC 20590. Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC. This notice of receipt of applications for special permit is published in accordance with part 107 of the Federal hazardous materials transportation law (49 U.S.C. 5117(b); 49 CFR 1.53(b)).

Issued in Washington, DC, on August 05, 2021.
Donald P. Burger,
Chief, General Approvals and Permits Branch.

Application No. | Applicant | Regulation(s) affected | Nature of the special permits thereof
Special Permits Data
21258-N | Veolia Es Technical Solutions, LLC | 173.224(c), 173.21(f), 173.124(a)(2)(iii)(C), 173.124(a)(2)(iii)(D) | To authorize the one-time one-way transportation of self-reactive waste for disposal. (mode 1)
21261-N | Korean Airlines Co., Ltd | 172.101(j)(1), 173.27(b)(2), 173.27(b)(3), 175.30(a)(1) | To authorize the transportation in commerce of certain explosives that are forbidden for transportation by cargo aircraft only. (mode 4)
21262-N | The Chemours Company FC LLC | 173.301(f)(2), 177.840(a)(1) | To authorize the transportation in commerce of certain Division 2.1 gases in cylinders without the pressure relief device (PRD) being in communication with the vapor space. (mode 1)
21264-N | National Air Cargo Group, Inc | 172.101(j), 172.204(c)(3), 173.27(b)(2), 173.27(b)(3), 175.30(a)(1) | To authorize the transportation in commerce of certain Division 1.1, 1.2, 1.3 and 1.4 explosives which are forbidden or exceed quantities authorized for transportation by cargo aircraft only. (mode 4)
21265-N | Marine Fire Systems, LLC | 173.56, 173.56 | To authorize the transportation of samples of a pyrotechnic extinguishing agent for testing in support of a DOT SBIR research project. (mode 1)
21266-N | Richmond Pacific Railroad Corp | 172.203(a), 174.24, 174.26 | To authorize the use of electronic means to maintain and communicate on-board train consist information in lieu of paper documentation when hazardous materials are transported by rail. (mode 2)
21267-N | Synchronous LLC | 172.101(j) | To authorize the transportation in commerce of lithium batteries exceeding 35 kg by cargo-only aircraft. (mode 4)
21268-N | Watco Companies, LLC | 174.85 | To authorize the transportation in commerce of hazardous materials by rail with one buffer car between placarded cars and the engines. (mode 2)
21269-N | Porsche Logistik Gmbh | 172.101(j) | To authorize the transportation in commerce of lithium batteries exceeding 35 kg by cargo-only aircraft. (mode 4)
21271-N | Orion Engineered Carbons LLC | 171.23(a)(1), 171.23(a)(5) | To authorize the transportation in commerce of Dinitrogen Tetroxide in non-DOT specification cylinders. (mode 3)
21272-N | General Motors LLC | 173.220(d), 173.185(a)(1) | To authorize the transportation in commerce via motor vehicle of production batteries that have not been proven to be of a type that meets the testing requirements of the UN Manual of Test and Criteria Section 38.3. (mode 1)
21273-N | Spaceflight, Inc | 173.185(e)(3) | To authorize the transportation in commerce of low production and prototype lithium batteries contained in equipment by motor vehicle. (mode 1)

[FR Doc. 2021-17148 Filed 8-11-21; 8:45 am]

BILLING CODE P